DEPARTMENT OF COMMERCE

National Oceanic and Atmospheric Administration

RIN 0648-XN04

National Marine Fisheries Service; Public Meeting

AGENCY: National Marine Fisheries Service (NMFS), National Oceanic and Atmospheric Administration (NOAA), Commerce.

ACTION: Notice of a public workshop.

SUMMARY: NMFS will hold a workshop for participants that are required to submit an Economic Data Report (EDR) for the Amendment 80 Cooperative Program.

DATES: The workshop will be held on Tuesday, February 17, 2009, from 9:30 a.m. to 12 p.m. Pacific Standard Time.

ADDRESSES: The workshop will be held at the Groundfish Forum Office, 4241 21st Avenue West, Suite 302 Seattle, WA 98199, telephone: (206) 213-5270.

FOR FURTHER INFORMATION CONTACT: Brian Garber-Yonts, (206) 526-6301 or brian.garber-yonts@noaa.gov.

SUPPLEMENTARY INFORMATION: The Amendment 80 Cooperative Program requires any Amendment 80 quota share permit holder to submit an Economic Data Report for the previous calendar year. NMFS staff will hold a workshop with industry members to review current Amendment 80 EDR forms and documentation requirements. Workshop participants will also discuss the development of best practices guidelines for completing Amendment 80 EDR forms and may discuss possible future revisions to the Amendment 80 EDR forms. For further information on the Amendment 80 Cooperative Program, please visit the NMFS Alaska Region website at http://www.alaskafisheries.noaa.gov.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This workshop is physically accessible to people with disabilities. Requests for special accommodations should be directed to Brian Garber-Yonts (see FOR FURTHER INFORMATION CONTACT) at least 5 working days before the workshop date.

Dated: January 29, 2009.
Tracey L. Thompson,
Acting Director, Office of Sustainable Fisheries, National Marine Fisheries Service.

[FR Doc. E9-2207 Filed 2-2-09; 8:45 am]

BILLING CODE 3510-22-S